ENVIRONMENTAL PROTECTION AGENCY

[FRL-6847-8]

Notice of Approval of the State of Minnesota's Submission Pursuant to Section 118 of the Clean Water Act and the Water Quality Guidance for the Great Lakes System

AGENCY: Environmental Protection Agency (EPA).

ACTION: Notice.

SUMMARY: Notice is hereby given of approval of the State of Minnesota's submission of criteria, methodologies, policies and procedures for the Great Lakes System pursuant to Section 118(c) of the Clean Water Act.

DATES: EPA's approval is effective on August 8, 2000.

FOR FURTHER INFORMATION CONTACT: Mery Jackson-Willis, U.S. EPA, Region 5, 77 West Jackson Blvd., Chicago, IL 60604, or telephone her at (312) 353-3717.

Copies of a letter from EPA to the State of Minnesota describing EPA's decision are available upon request by contacting Ms. Jackson-Willis. This letter and other related materials submitted by the State in support of its submission and considered by EPA in its decision, as well as documents generated by EPA explaining the basis for its decision, are available for review by appointment at U.S. EPA Region 5, 77 West Jackson Blvd, Chicago, IL 60604. Appointments may be made by calling Ms. Jackson-Willis.

SUPPLEMENTARY INFORMATION: On March 23, 1995, EPA published the Final Water Quality Guidance for the Great Lakes System (Guidance) pursuant to section 118(c)(2) of the Clean Water Act, 33 U.S.C. 1268(c)(2). (March 23, 1995, 60 FR 15366). The Guidance, which was codified at 40 CFR Part 132, requires the Great Lakes States to adopt and submit to EPA for approval water quality criteria, methodologies, policies and procedures that are consistent with the Guidance. 40 CFR 132.4 and 132.5. EPA is required to approve of the State's submission within 90 days or notify the State that EPA has determined that all or part of the submission is inconsistent with the Clean Water Act or the Guidance and identify any necessary changes to obtain EPA approval. If the State fails to make the necessary changes within 90 days, EPA must publish a notice in the Federal Register identifying the approved and disapproved elements of the submission and a final rule identifying the provisions of Part 132 that shall apply for discharges within the State.

On April 28, 1998, EPA published in the Federal Register notice of its receipt of Minnesota's Great Lakes Guidance submission and a solicitation of public comment on the National Pollutant Discharge Elimination System (NPDES) portion of that submission. 63 FR 23285. On September 28, 1999, EPA issued a letter notifying the Minnesota Pollution Control Agency (MPCA) that, based upon commitments by MPCA, including a commitment to enter into an Addendum to its Memorandum of Agreement with EPA regarding the State's approved NPDES program, EPA believed that the State of Minnesota had generally adopted requirements consistent with the Guidance. On October 20, 1999, EPA published in the Federal Register a notice of and solicitation of public comment on its September 28, 1999, letter. 64 FR 56505. On May 1, 2000, Minnesota fulfilled the commitments described in the letter, including entering into an Addendum to its Memorandum of Agreement with EPA regarding the State's approved NPDES program in which MPCA commits to always exercise its discretion under those provisions in a manner consistent with the Guidance.

EPA has determined that the entirety of Minnesota's submission is consistent with 40 CFR Part 132. The elements of Minnesota's submission that EPA is approving consist of standards, methodologies, policies and procedures adopted in accordance with the following provisions of the Guidance: the definitions in 40 CFR 132.2; the water quality criteria for the protection of aquatic life, human health and wildlife in tables 1-4 of Part 132; the methodologies for development of aquatic life criteria and values, bioaccumulation factors, human health criteria and values and wildlife criteria in Appendices B-D of Part 132; the antidegradation policy in Appendix E of Part 132; and the implementation procedures in Appendix F of Part 132. EPA approves these elements in Minnesota's submission pursuant to 40 CFR 132.5. Today's final action only addresses the Minnesota provisions adopted to comply with section 118(c)(2) of the Clean Water Act and 40 CFR Part 132. EPA is taking no action at this time with respect to other revisions Minnesota may have made to its NPDES program or water quality standards in areas not addressed by the Guidance or applicable outside of the Great Lakes System.

Francis X. Lyons,
Regional Administrator, Region 5.

[FR Doc. 00-20023 Filed 8-7-00; 8:45 am]

BILLING CODE 6560-5-P